DEPARTMENT OF THE INTERIOR

Fish and Wildlife Service

Endangered and Threatened Species Permit Applications

AGENCY: Fish and Wildlife Service, Interior.

ACTION: Notice of receipt of application.

SUMMARY: The following applicants have applied for permits to conduct certain activities with endangered species. This notice is provided pursuant to section 10(c) of the Endangered Species Act of 1973, as amended (16 U.S.C. 1531, et seq.).

DATES: Written data or comments should be submitted to the Regional Director, U.S. Fish and Wildlife Service, Ecological Services, 1 Federal Drive, Fort Snelling, Minnesota 55111—4056, and must be received on or before January 20, 2004.

FOR FURTHER INFORMATION CONTACT: Mr. Peter Fasbender, (612) 713-5343.

SUPPLEMENTARY INFORMATION:

Permit Number TE 056081-1

Applicant: EnviroScience, Incorporated, Stow, Ohio.

The applicant requests a permit to take (collect) listed fish and mussel species throughout the State of Georgia. Activities are proposed to identify populations of listed species and to develop methods to minimize or avoid project related impacts to those populations. The scientific research is aimed at enhancement of survival of species in the wild.

Permit Number TE 023666-0

Applicant: Eric R. Britzke, Clemson University, Clemson, South Carolina.

The applicant requests a permit to take (collect) the northern flying squirrel (Glaucomys sabrinus) throughout North Carolina and Virginia. Activities are proposed for the enhancement of survival of the species in the wild.

Permit Number TE 079161-0

Applicant: Paula K. Kleintjes, University of Wisconsin-Eau Claire, Eau Claire, Wisconsin.

The applicant requests a permit to take (harass) Karner blue butterfly (Lycaeides melissa samuelis) in Wisconsin. Activities are proposed for the enhancement of survival of (Lycaeides melissa samuelis) in Wisconsin. Activities are proposed for the enhancement of survival of the species in the wild.

Permit Number TE 079162-0

Applicant: Jeremy A. Williamson, Polk County Land and Water Resources Department, Balsam Lake, Wisconsin.

The applicant requests a permit to take (collect) Higgins' eye pearlymussel (Lampsilis higginsi) and winged mapleleaf (Quadrula fragosa) in Wisconsin. Activities are proposed for the enhancement of survival of the species in the wild.

Permit Number TE 072500

Applicant: U.S. Army Corps of Engineers, Engineer Research and Development Center, Champaign, Illinois.

The applicant requests a permit to take Topeka shiner (Notropis topeka) in Illinois. Activities are proposed for the enhancement of survival of the species in the wild.

Dated: December 3, 2003.
T.J. Miller,
Acting Assistant Regional Director, Ecological Services, Region 3, Fort Snelling, Minnesota.

[FR Doc. 03-31184 Filed 12-17-03; 8:45 am]

BILLING CODE 4910-13-U